NATIONAL SCIENCE FOUNDATION

EarthScope Science and Education Advisory Committee Notice of Meeting

In accordance with the Federal Advisory Committee Act (Public Law 92-463, as amended), the National Science Foundation announces the following meeting.

Name: EarthScope Science and Education Advisory Committee (#16638)

Dates/Time: 8:30 a.m.-5:30 p.m.-Tuesday, July 26, 2005. 8:30 a.m.-3 p.m.-Wednesday, July 27, 2005.

Place: Nevada Bureau of Mines & Geology, Univ. of Nevada, Reno, NV 89557-0088.

Type of Meeting: Open.

Contact Person: Dr. Kaye Shedlock, Program Director, EarthScope Program, Division of Earth Sciences, Room 785, National Science Foundation, Arlington, VA, (703) 292-4693.

Minutes: May be obtained from the contact person listed above.

Purpose of Meeting: To provide advice and recommendations concerning support for research, education and outreach in the EarthScope Program.

Agenda: To provide advice on EarthScope Program measures of success, education and outreach plans, webpage development and other program issues.

Dated: June 21, 2005.
Susanne Bolton,
Committee Management Officer.

[FR Doc. 05-12542 Filed 6-23-05; 8:45 am]

BILLING CODE 7555-01-M